ENVIRONMENTAL PROTECTION AGENCY

[FRL-7260-7]

Agency Information Collection Activities: Submission for OMB Review; Comment Request, NESHAP for Inorganic Arsenic Emissions From Glass Manufacturing Plants (Part 61, Subpart N)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Inorganic Arsenic Emissions from Glass Manufacturing Plants (Part 61, Subpart N), OMB Control Number 2060-0043, expiration date August 31, 2002. The ICR describes the nature of the information collection and its expected burden and cost; where appropriate, it includes the actual data collection instrument.

DATES: Comments must be submitted on or before September 16, 2002.

ADDRESSES: Send comments, referencing EPA ICR No. 1081.07 and OMB Control No. 2060-0043, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by e-mail at auby.susan@epamail.epa.gov or download off the Internet at http://www.epa.gov/icr and refer to EPA ICR No. 1081.07. For technical questions about the ICR contact Gregory Fried, OECA, by telephone on 202-564-7016.

SUPPLEMENTARY INFORMATION: Title: NESHAP for Inorganic Arsenic Emissions from Glass Manufacturing Plants (Part 61, Subpart N), OMB Control Number 2060-0043, EPA ICR Number 1081.07, expiration date August 31, 2002. This is a request for extension of a currently approved collection.

Abstract: The National Emission Standards for Hazardous Air Pollutants (NESHAP) for Inorganic Arsenic Emissions from Glass Manufacturing Plants (40 CFR part 61, subpart N) were proposed on July 20, 1983, and promulgated on August 4, 1986. The standards were amended on May 31, 1990, to add an alternative test method. These standards apply to each glass melting furnace that uses commercial arsenic as a raw material. These standards do not apply to pot furnaces. Also, rebricking is not considered construction or modification for the purposes of 40 CFR 61.05. This information is being collected to assure compliance with 40 CFR part 61, subpart N. In general, all NESHAP standards require initial notifications, performance tests, and periodic reports. Owners or operators are also required to maintain records of the occurrence and duration of any startup, shutdown, or malfunction in the operation of an affected facility, or any period during which the monitoring system is inoperative. These notifications, reports, and records are essential in determining compliance, and are required of all sources subject to NESHAP. Any owner or operator subject to the provisions of this part shall maintain a file of these measurements, and retain the file for at least two years following the date of such measurements, maintenance reports, and records. All reports are sent to the delegated State or local authority. In the event that there is no such delegated authority, the reports are sent directly to the United States Environmental Protection Agency (EPA) Regional Office.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001 (66 FR 54514). No comments were received.

Burden Statement: The annual public reporting and recordkeeping burden for this collection of information is estimated to average 141 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Glass manufacturing plants that use commercial arsenic as a raw material.

Estimated Number of Respondents: 28.

Frequency of Response: Semi-annually.

Estimated Total Annual Hour Burden: 4,524 hours.

Estimated Total Annualized Capital, O&M Cost Burden: $98,000.

Send comments on the Agency's need for this information, the accuracy of the provided burden estimates, and any suggested methods for minimizing respondent burden, including through the use of automated collection techniques to the addresses listed above. Please refer to EPA ICR No. 1081.07 and OMB Control No. 2060-0043 in any correspondence.

Dated: August 2, 2002.
Oscar Morales,
Director, Collection Strategies Division.

[FR Doc. 02-20868 Filed 8-15-02; 8:45 am]

BILLING CODE 6560-50-P